DEPARTMENT OF TRANSPORTATION

Federal Aviation Administration

Proposed revision: Technical Standard Order (TSO)-C128a, Equipment That Prevent Blocked Channels Used in Two-Way Radio Communications Due To Unintentional Transmissions

AGENCY: Federal Aviation Administration (DOT).

ACTION: Notice of availability and request for public comment.

SUMMARY: This notice announces the availability of and requests comments on a proposed Technical Standard Order (TSO)-C128a, Equipment That Prevent Blocked Channels Used in Two-way Radio Communications Due To Unintentional Transmissions. The TSO manufacturers seeking a TSO authorization or letter of design approval what minimum performance standards (MPS) their transmitter radio equipment to prevent blocked channels must first meet for approval and identification with the applicable TSO markings.

DATES: Submit comments on or before July 5, 2005.

ADDRESSES: Send all comments on the proposed revised technical standard order to: Federal Aviation Administration (FAA), Aircraft Certification Service, Aircraft Engineering Division, Avionic Systems Branch, Room 815, AIR-130, 800 Independence Avenue, SW., Washington, DC 20591. Attn: Mr. Thomas Mustach. Or deliver comments to: Federal Aviation Administration, Room 815, 800 Independence Avenue, SW., Washington, DC 20591.

FOR FURTHER INFORMATION CONTACT: Mr. Thomas Mustach, AIR-130, Room 815, Federal Aviation Administration, Aircraft Certification Service, Aircraft Engineering Division, 800 Independence Avenue, SW., Washington, DC 20591. Telephone (425) 227-1935, FAX: (425) 227-1181. Or, via e-mail at: thomas.mustach@faa.gov.

SUPPLEMENTARY INFORMATION:

Comments Invited

You are invited to comment on the proposed TSO listed in this notice by submitting such written data, views, or arguments to the address listed above. Your comments should identify “Comments to Proposed TSO-C128a.“ You may examine all comments received on the proposed revised TSO before and after the comment closing date, at the FAA Headquarters Building, Room 815, 800 Independence Avenue, SW., Washington, DC 20591, weekdays except Federal holidays, between 8:30 a.m. and 4:30 p.m. The Director of the Aircraft Certification Service will consider all communications received on or before the closing date before issuing the final revised TSO.

Background

This proposed TSO-C128a includes the latest TSO boilerplate wording and format, to include a Functionality definition used to specify the Failure Hazard Classification and invokes environmental conditions and test procedures specified in RTCA/DO-160E, Environmental Conditions and Test Procedures for Airborne Equipment, dated December 9, 2004. The proposed TSO provides a minimum operational performance standard for equipment intended to prevent blocked frequencies used in air traffic control (ATC) two-way radio communication due to unintentional transmissions by aircraft transmitters. Equipment covered by this proposed TSO is primarily intended for Aeronautical Operational Control (AOC) and Air Traffic Services (ATS) safety communications.

How To Obtain Copies

You may get a copy of the proposed TSO from the Internet at: http://av-info.faa.gov/tso/Tsopro/Proposed.htm. See section entitled for further information contact for the complete address if requesting a copy by mail. You may inspect the RTCA document at the FAA office location listed under addresses. Note however, RTCA documents are copyrighted and may not be reproduced without the written consent of RTCA, Inc. You may purchase copies of RTCA, Inc. documents from: RTCA, Inc., 1828 L Street, NW., Suite 815, Washington, DC 20036, or directly from their Web site: http://www.rtca.org/.

Issued in Washington, DC, on May 26, 2005.
Susan J.M. Cabler,
Assistant Manager, Aircraft Engineering Division, Aircraft Certification Service.

[FR Doc. 05-11114 Filed 6-2-05; 8:45 am]

BILLING CODE 4910-13-M